FEDERAL COMMUNICATIONS COMMISSION

Radio Broadcasting Services; AM or FM Proposals To Change the Community of License

AGENCY: Federal Communications Commission.

ACTION: Notice.

SUMMARY: The following applicants filed AM or FM proposals to change the community of license: 1TV.COM, INC., Station KIKO, Facility ID 72477, BP-20100824ABA, From MIAMI, AZ, To APACHE JUNCTION, AZ; LA NUEVA CADENA RADIO LUZ, INC., Station KLIT, Facility ID 86722, BPED-20110502AET, From DEL RIO, TX, To EAGLE PASS, TX; LOUT, JAMES M, Station NEW, Facility ID 170971, BMPH-20100301ABS, From PINELAND, TX, To BROOKELAND; NETWORK OF GLORY, INC., Station WJRJ, Facility ID 176650, BMPED-20110518AAK, From MONTREAT, NC, To SPRUCE PINE, NC.

DATES: The agency must receive comments on or before August 1, 2011.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC 20554, telephone 1-800-378-3160 or http://www.BCPIWEB.com.

Federal Communications Commission.
James D. Bradshaw,
Deputy Chief, Audio Division, Media Bureau.

[FR Doc. 2011-13745 Filed 6-1-11; 8:45 am]

BILLING CODE 6712-01-P